BROADCASTING BOARD OF GOVERNORS

Sunshine Act Meeting

DATE AND TIME: March 29, 2001; 11 a.m.

PLACE: The Doral Hotel, 4400 N.W. 87th Avenue, Miami, Florida 33166.

OPEN MEETING: The members of the Advisory Board for Cuba Broadcasting will meet in open session to review and discuss a number of issues pertaining to the Martis including programming contracts, UHF reception, and the status of the aerostat. The purpose of the meeting is to review the effectiveness of the operations of Radio and TV Marti and advise the President and the Broadcasting Board of Governors accordingly.

CONTACT PERSON FOR MORE INFORMATION: Persons interested in obtaining more information should contact Yvonne Soler McKinley at (305) 437-7244.

Dated: March 12, 2001.
Carol Booker,
Legal Counsel.

[FR Doc. 01-6518 Filed 3-12-01; 4:50 pm]

BILLING CODE 8230-01-M